DEPARTMENT OF TRANSPORTATION

Federal Motor Carrier Safety Administration

[Docket No. FMCSA-2014-0407]

Hours of Service (HOS) of Drivers; Application for International Association of Movers (IAM) Exemption From the 14-Hour Rule

AGENCY: Federal Motor Carrier Safety Administration (FMCSA), DOT.

ACTION: Notice of application for exemption; request for comments.

SUMMARY: FMCSA announces that the International Association of Movers (IAM) has applied for an exemption from FMCSA's regulation prohibiting operators of commercial motor vehicles (CMVs) from driving following the 14th hour after coming on duty. IAM's exemption request is on behalf of all FMCSA-authorized carriers moving household goods, regardless of membership in IAM or any other professional society. The requested exemption would be used only by drivers who need to move their vehicles from the customer's residence or military base to a safe place for overnight parking when there are delays in completing the job. In no case would the drivers be permitted to drive more than 75 miles or 90 minutes after the 14th hour. FMCSA requests public comment on IAM's application for exemption.

DATES: Comments must be received on or before December 19, 2014.

ADDRESSES: You may submit comments bearing the Federal Docket Management System (FDMS) Docket ID FMCSA-2014-0407 using any of the following methods:

• Federal eRulemaking Portal: Go to www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., ET, Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14FDMS), which can be reviewed at www.dot.gov/privacy.

FOR FURTHER INFORMATION CONTACT: For information concerning this notice, contact Ms. Pearlie Robinson, FMCSA Driver and Carrier Operations Division; Office of Carrier, Driver and Vehicle Safety Standards; Telephone: 202-366-4325. Email: MCPSD@dot.gov. If you have questions on viewing or submitting material to the docket, contact Docket Services, telephone (202) 366-9826.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Request for Exemption

The International Association of Movers (IAM) is a global trade association representing more than 2,000 companies in over 170 countries. IAM counts van lines, agents, freight forwarders and brokers among its membership base. IAM members move household goods for a number of Federal agencies and the public. IAM's members provide relocation services throughout North America and at strategic points throughout the world.

IAM is seeking an exemption from the “14-hour rule” in 49 CFR 395.3(a)(2), which prohibits a property-carrying CMV driver from driving a CMV after the 14th hour after coming on duty following 10 consecutive hours off duty. IAM's exemption request is on behalf of all FMCSA-authorized carriers moving household goods (HHGs), regardless of membership in IAM or any other professional society. Under IAM's proposal, the exemption would be used only by drivers who need to move their trucks from the customer's residence to a safe place for overnight parking when there are delays in completing the job. The overnight parking location would offer safety for the occupants of the CMV, security for the CMV and its cargo, and avoid creating a safety hazard on local streets. In no case would the driver be permitted to drive more than 75 miles or 90 minutes after reaching the 14th hour. Upon reaching a safe place to park their CMVs, drivers using this exemption would be required to take 10 hours off duty before driving again. The driver must notify the motor carrier each time the extension is used. These log entries would provide verification and a record whenever the exemption is used and would be available during compliance reviews.

IAM contends that operations of its sector of the trucking industry are subject to a multitude of unique circumstances not faced by the majority of the general property and commodity industry. Customers frequently change their plans and expect their movers to accommodate these changes. IAM states that the list of potential unforeseen, impossible-to-plan-for situations that can cause delay is nearly endless. Unanticipated delays, including recently stepped-up security checkpoints within military bases and facilities, a homeowner's schedule (and level of preparedness for a scheduled move), unusually shaped items that need to be packed in-home by the driver and team, and the amount of time off-highway driving and irregular routes faced by the household goods moving industry are among the many factors that require the flexibility requested by IAM. All of these issues can change schedules beyond the original plan developed by the mover.

IAM states that the vast majority of these situations will not impact these drivers' ability to complete residential loading or unloading jobs within the 14-hour rule. However, when rare, unusual, and unforeseen circumstances arise, the rule forces drivers nearing the end of their 14-hour shifts to choose one of two impractical alternatives; either (1) stop a moving crew from completing the loading or unloading of a customer's household goods shipment in order to be able to drive the moving truck from the customer's residence to a place offering safety for the occupants of the CMV, security for the CMV and its cargo, and to avoid creating a safety hazard on local streets, or (2) permit completion of the loading or unloading, but leave the moving truck where it is, typically parked on an unsecured residential street, for at least 10 hours before they are permitted to drive again. Neither choice permits efficient, effective or safe operation.

IAM believes that the requested exemption is comparable to the current regulation permitting certain “short-haul” drivers an increased driving window once per week, and other non-CDL short-haul drivers two such extended duty periods per week. The driving circumstances experienced under this exemption—the relatively short time and distance needed to remove their CMVs from residential areas to safe locations—can be analogous to the “short-haul” situations. IAM acknowledges that all drivers using the requested exemption would still be subject to all of the other Federal Motor Carrier Safety Regulations, including all other hours-of-service requirements.

A copy of IAM's application for exemption is available for review in the docket for this notice.

In accordance with 49 U.S.C. 31136(e) and 31315(b)(4), FMCSA requests public comment on IAM's application for an exemption from certain provisions of the driver's HOS rules in 49 CFR part 395. The Agency will consider all comments received by close of business on December 19, 2014. Comments will be available for examination in the docket at the location listed in the ADDRESSES section of this notice.

Issued on: November 13, 2014.
Larry W. Minor,
Associate Administrator for Policy.

[FR Doc. 2014-27392 Filed 11-18-14; 8:45 am]

BILLING CODE 4910-EX-P